DEPARTMENT OF STATE

[Public Notice 3558]

Benjamin A. Gilman International Scholarship Program; Conference for Bidders

SUMMARY: The State Department's Bureau of Educational and Cultural Affairs announces a Conference for Bidders, inviting for discussion organizations that are interested in submitting a Proposal to administer the Benjamin A. Gilman International Scholarship Program. The conference will take place at 2:00 p.m., February 6, 2001 at the following location: SA-44, 301 4th Street, SW, Washington, DC, 20547.

ADDITIONAL INFORMATION: Interested organizations should contact Amy Forest at (202) 619-5434 prior to February 5, 2001 to schedule their attendance at the Conference.

The Benjamin A. Gilman International Scholarship Program was announced in the Federal Register, Volume 66, Number 11, on January 17, 2001.

Dated: January 19, 2001.
Helena Kane Finn,
Principal Deputy Assistant Secretary, Bureau of Educational and Cultural Affairs, Department of State.

[FR Doc. 01-2315 Filed 1-24-01; 8:45 am]

BILLING CODE 4710-05-P